DEPARTMENT OF ENERGY

Federal Energy Regulatory Commission

[Project No. 2145-060]

Rocky Reach Hydroelectric Project; Notice of Availability of Draft Environmental Impact Statement

September 1, 2005.

In accordance with the National Environmental Policy Act of 1969 and the Federal Energy Regulatory Commission (Commission or FERC) regulations contained in the Code of Federal Regulations (CFR) (18 CFR Part 380 [FERC Order No. 486, 52 FR 47897]), the Office of Energy Projects staff (staff) reviewed the application for a New Major License for the Rocky Reach Project. Staff prepared a draft environmental impact statement (DEIS) for the project, located on the Columbia River in Chelan County, Washington.

The DEIS contains staff's analysis of the potential environmental effects of the project and concludes that licensing the project, with staff's recommended measures, would not constitute a major federal action significantly affecting the quality of the human environment.

A copy of the DEIS is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

Any comments should be filed within 60 days from the notice date in the Federal Register and should be addressed to Magalie R. Salas, Secretary, Federal Energy Regulatory Commission, 888 First Street, NE., Washington, DC 20426. Please affix Rocky Reach Project, P-2145-060 to all comments. For further information, please contact Kim A. Nguyen at (202) 502-6105 or at kim.nguyen@ferc.gov.

Magalie R. Salas,
Secretary.

[FR Doc. E5-4916 Filed 9-8-05; 8:45 am]

BILLING CODE 6717-01-P